CONSUMER PRODUCT SAFETY COMMISSION

Sunshine Act Meetings

TIME AND DATE: Wednesday, June 22, 2022; 2:00 p.m.

PLACE: The meeting will be held remotely.

STATUS: Commission Meeting—Open to the Public.

Matter To Be Considered: Decisional Matter: Notice of Proposed Rulemaking: Safety Standard for Recreational Off-Highway Vehicle and Utility Task/Terrain Vehicle Debris Penetration Hazards.

All attendees should pre-register for the Commission meeting using the following link: https://cpsc.webex.com/cpsc/onstage/g.php?MTID=e4deb22642fc939114f31638cbcb5057e.

After registering you will receive a confirmation email containing information about joining the meeting.

TIME AND DATE: Wednesday, June 22, 2022; 2:00 p.m. (immediately following the conclusion of the Public Commission Meeting).

PLACE: The meeting will be held remotely.

STATUS: Commission Meeting—Closed to the Public.

Matter To Be Considered: Briefing Matter: Commission staff will brief the Commission on a compliance matter.

CONTACT PERSON FOR MORE INFORMATION: Alberta E. Mills, Office of the Secretary, U.S. Consumer Product Safety Commission, 4330 East-West Highway, Bethesda, MD 20814, 301-504-7479 (Office) or 240-863-8938 (Cell).

Dated: June 15, 2022.
Alberta E. Mills,
Commission Secretary.

[FR Doc. 2022-13254 Filed 6-15-22; 4:15 pm]

BILLING CODE 6355-01-P